DEPARTMENT OF AGRICULTURE

Food and Nutrition Service

Agency Information Collection Activities: Proposed Collection; Comment Request—Evaluation of Supplemental Nutrition Assistance Program (SNAP) Employment and Training (E&T) Pilots

AGENCY: Food and Nutrition Service (FNS), USDA.

ACTION: Notice.

SUMMARY: In accordance with the Paperwork Reduction Act of 1995, this notice invites the public and other public agencies to comment on this proposed information collection. This is a new collection for the purpose of evaluating the Fiscal Year 2015 Pilot Projects to Reduce Dependency and Increase Work Requirements and Work Effort Under the Supplemental Nutrition Assistance Program (SNAP).

DATES: Written comments must be received on or before July 20, 2015.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information collected; and (d) ways to minimize the burden of the collection of information on those who are to respond, including use of appropriate automated, electronic, mechanical, or other technological collection techniques or other forms of information technology.

Comments may be sent to: Wesley R. Dean, Food and Nutrition Service, U.S. Department of Agriculture, 3101 Park Center Drive, Room 1014, Alexandria, VA 22302. Comments may also be submitted via fax to the attention of Wesley R. Dean at 703-305-2576 or via email to wesley.dean@fns.usda.gov. Comments will also be accepted through the Federal eRulemaking Portal. Go to http://www.regulations.gov, and follow the online instructions for submitting comments electronically.

All written comments will be open for public inspection at the Office of the Food and Nutrition Service during regular business hours (8:30 a.m. to 5 p.m. Monday through Friday) at 3101 Park Center Drive, Room 1014, Alexandria, Virginia 22302.

All responses to this notice will be summarized and included in the request for Office of Management and Budget approval. All comments will be a matter of public record.

FOR FURTHER INFORMATION CONTACT: Requests for additional information or copies of this information collection should be directed to Wesley R. Dean, Office of Policy Support, Food and Nutrition Service, USDA, 3101 Park Center Drive, Room 1014, Alexandria, VA 22302.

SUPPLEMENTARY INFORMATION: Title: Evaluation of SNAP E&T Pilots.

OMB Number: 0584-NEW.

Expiration Date: Not Yet Determined.

Type of Request: New Collection.

Abstract: The Supplemental Nutrition Assistance Program (SNAP) is a critical work support for low-income people and families. SNAP benefits help eligible low-income families put food on the table in times of need. It also supports critical and needed skills and job training so that recipients can obtain good jobs that lead to self-sufficiency. SNAP's long-standing mission of helping unemployed and underemployed people is challenging. To help them and their families achieve self-sufficiency, strategies are needed to impart the skills employers want, and to help address other barriers to employment. Some participants need assistance developing a resume and accessing job leads, others need education and training, and still others need help overcoming barriers that prevent them from working steadily. The SNAP Employment and Training (E&T) program provides assistance to unemployed and underemployed clients in the form of job search, job skills training, education (basic, post-secondary, vocational), work experience or training and workfare, but limited information exists on what is most effective in connecting these participants to gainful employment.

The Agriculture Act of 2014 (Pub. L. 113-79, Section 4022), otherwise known as the 2014 Farm Bill authorized grants for up to 10 pilot sites to develop and rigorously test innovative SNAP E&T strategies for engaging more SNAP work registrants in unsubsidized employment, increasing participants' earnings and reducing reliance on public assistance. The pilots' significant funding can expand the reach of employment and training services and enable States to experiment with promising strategies to increase engagement and promote employment. An evaluation of the pilot sites will be critical in helping Congress and FNS identify strategies that effectively assist SNAP participants to succeed in the labor market and become self-sufficient.

The 10 States receiving grants to fund pilot projects are California, Delaware, Georgia, Kansas, Kentucky, Illinois, Mississippi, Vermont, Virginia and Washington State. The evaluation will collect data from all 10 pilot sites in 2015-2016 (baseline), 2016-2017 (12-month follow-up) and 2018-2019 (36-month follow-up). The data collected for this evaluation will be used for implementation, impact, participant and cost-benefit analyses for each pilot site. Research objectives include: (1) Documenting the context and operations of each pilot, identify lessons learned, and to help interpret and understand impacts within each pilot and across pilots, (2) identifying the impacts on employment, earnings, and reliance on public assistance and food security and other outcomes, to determine what works, and what works for whom, (3) examine the characteristics of service paths of pilot participants and the control group to assess whether the mere presence of the pilots and their offer of services or participation requirements influence whether people apply for SNAP (entry effects), and (4) estimate the total and component costs of each pilot and provide an estimate of the return to each dollar invested in the pilot services. Primary outcomes will be employment, earnings, and participation in public assistance programs, which will be measured through state administrative records, a baseline survey administered during enrollment into the study, and through follow-up telephone surveys conducted at approximately 12 months and 36 months. Impacts on secondary outcomes, such as food security, health status, and self-esteem, will be measured through the follow-up telephone surveys as well. The end products (interim and final reports) will provide scientifically valid evidence of the pilot project impacts.

Affected Public: Members of the public affected by the data collection include individuals and households; State and local governments; and Businesses from the Private sector (for-profit and not-for-profit). Respondent types identified include (1) individuals and households eligible for SNAP E&T participation; (2) directors and managers from State and local government agencies supporting the SNAP E&T programs; (3) staff from State and local government agencies providing direct services to SNAP E&T participants; (4) directors and managers from private sector for-profit businesses providing SNAP E&T services; and (5) directors and managers from private sector not-for-profit agencies providing SNAP E&T services.

Estimated Number of Respondents: The total estimated number of respondents is 50,758. This includes 50,018 individuals, 280 State and local government directors/managers and staff, and 460 private sector for-profit business and not-for-profit agency directors/managers. Of the 50,000 individuals completing a baseline survey when applying for services, FNS will contact 25,000 out of which 18,240 individuals in the treatment and comparison groups will complete a 12-month follow-up telephone survey (6,760 will be non-responders). Of 18,240 respondents to the 12-month follow-up, 11,090 will complete a 36-month follow-up telephone survey (7,150 non-respondents). Among the individuals contacted for the telephone surveys, 120 may also be contacted for a focus group, 67 for an in-depth interview, and 27 for a case study on topics of special interest to FNS. Of the individuals contacted for the focus groups, in-depth interviews, and case studies, 214 participants will participate and 86 will decline and be considered nonrespondents. 18 individuals will be contacted separately to pretest surveys, interviews, and focus groups. 170 State and local government agency directors/managers will be contacted for in-person interviews. 150 of those will be interviewed two additional times; 10 of the directors/managers will provide case study data and 10 will provide cost data. A separate group of 100 directors/managers will be sampled to participate in a time use survey, and 10 data director/managers will be contacted for administrative data. 200 Private sector not-for-profit and for-profit agency directors/managers and staff will be contacted for cost/benefit interviews. These individuals will also be contacted for in-person interviews, and the directors and managers for the case study will be recruited from this group.

160 individuals will be contacted for a time-use survey. This sample will also be used to recruit staff to participate in the case study. 100 staff members responsible for data management will also be contacted for the provision of administrative data.

Estimated Frequency of Responses per Respondent: Average of 1 response for individuals per instrument or activity and 1.59 for all activities, 4.36 responses for State and local government representatives for all contacts, and 21.07 responses for private sector representatives for all contacts. The number of contacts per activity range from 1 to 20 across all participants.

Estimated Total Annual Responses: 106,159.

Estimated Time per Response: About 0.35 hours (21.6 minutes). The estimated time of response varies from 0.08 to 8 hours depending on the respondent group and data collection activity, as shown in the table below.

Estimated Total Annual Burden on Respondents: The total annual burden is 32,260 hours.

BILLING CODE 3410-30-P

Dated: May 12, 2015.
Audrey Rowe,
Administrator. Food and Nutrition Service.

[FR Doc. 2015-12205 Filed 5-19-15; 8:45 am]

BILLING CODE 3410-30-C